DEPARTMENT OF THE INTERIOR

Bureau of Indian Affairs

Submission of Agency Information Collection to the Office of Management and Budget for Review Under the Paperwork Reduction Act

AGENCY: Bureau of Indian Affairs, Interior.

ACTION: Notice.

SUMMARY: The Bureau of Indian Affairs (BIA) is submitting this information collection to the Office of Management and Budget for renewal of the Indian Child Welfare Annual Report form. The information collected will aid the BIA in fulfilling requirements of law. This renewal meets the requirements of the Paperwork Reduction Act of 1995.

DATES: Submit comments on or before March 7, 2005.

ADDRESSES: Your comments and suggestions on the requirements should be made directly to the attention: Desk Officer for the Department of the Interior, Office of Information and Regulatory Affairs, Office of Management and Budget, either by facsimile at (202) 395-6566, or by e-mail to OIRA_DOCKET@omb.eop.gov. Please provide a copy to Larry Blair, Bureau of Indian Affairs, Department of the Interior, 1951 Constitution Avenue, NW., Mail Stop-320-SIB, Washington, DC 20240. Telephone: (202) 513-7621.

FOR FURTHER INFORMATION CONTACT: Interested persons may obtain copies of the information collection requests without charge by contacting Mr. Larry Blair at (202) 513-7621, Facsimile number (202) 208-2648.

SUPPLEMENTARY INFORMATION:

I. Abstract

The information collection required by the use of this form is necessary to comply with Public Law 95-608, the Indian Child Welfare Act, and as codified in 25 CFR part 23, Indian Child Welfare Act (ICWA). This information is collected through the use of a consolidated caseload form by tribal Indian Child Welfare Act program directors who are the providers of the ICWA services. The information is used to determine the extent of service needs in local Indian communities, assessment of the Indian Child Welfare Act program effectiveness, and to provide data for the annual program budget justification. The responses to this request for information collection are voluntary and the aggregated report is not considered confidential. The public is not required to respond unless a currently valid OMB control number is displayed.

II. Request for Comments

We requested comments on the proposed renewal in the Federal Register (69 FR 65629) on November 15, 2004. No comments were received. You may submit comments to OMB at the address provided in the ADDRESSES section with a copy to the Bureau of Indian Affairs within 30 days concerning the following:

(a) the necessity of this information collection for the proper performance of the functions of the agency, including whether the information will have practical utility;

(b) the accuracy of the agency's estimate of the burden (hours and cost) of the collection of information, including the validity of the methodology and assumptions used;

(c) ways we could enhance the quality, utility and clarity of the information to be collected; and,

(d) ways we could minimize the burden of the collection of the information on therespondents, such as through the use of automated collection techniques or other forms of information technology.

Please note that an agency may not sponsor or request, and an individual need not respond to, a collection of information unless it has a valid OMB Control Number.

OMB is required to respond to this request within 60 days after publication of this notice in the Federal Register, but may respond after 30 days; therefore, your comments should be submitted to OMB within 30 days of publication to assure maximum consideration.

III. Data

Title: Department of the Interior, Bureau of Indian Affairs, Indian Child Welfare Act Annual Report, 25 CFR 23.4.

OMB Control Number: 1076-0131.

Type of Review: Renewal.

Brief Description of Collection: Indian tribes are required to collect selected data on Indian child welfare cases and submit them to the Bureau for consolidation. This data is useful on a local level, to the tribes and tribal organizations that collect it, for case management purposes and on nationwide bases for planning and budget purposes.

Respondents: Indian tribes or tribal entities who are operating programs for Indian tribes.

Number of Respondents: 536.

Estimated Time Per Response: 30 minutes.

Frequency of Response: Quarterly.

Estimated Annual Burden to Respondents: 1072 hours.

Dated: January 27, 2005.
David W. Anderson,
Assistant Secretary—Indian Affairs.

[FR Doc. 05-2056 Filed 2-2-05; 8:45 am]

BILLING CODE 4310-4J-P